DEPARTMENT OF ENERGY

Federal Energy Regulatory Commission

[Docket No. RD20-7-000]

Commission Information Collection Activities (FERC-725G); Comment Request; Revision

AGENCY: Federal Energy Regulatory Commission.

ACTION: Notice of revision of information collection and request for comments.

SUMMARY: In compliance with the requirements of the Paperwork Reduction Act of 1995, the Federal Energy Regulatory Commission (Commission or FERC) is soliciting public comment on the proposed changes to the information collection FERC-725G (Mandatory Reliability Standards for the Bulk-Power System: PRC Reliability Standards) and will be submitting the information collection to the Office of Management and Budget (OMB) for review.

DATES: Comments on the collection of information are due September 29, 2020.

ADDRESSES: Comments should be submitted to the Commission, in Docket No. RD20-7-000, by one of the following methods:

• eFiling at Commission's Website: http://www.ferc.gov/docs-filing/efiling.asp.

• U.S. Postal Service Mail: Persons unable to file electronically may mail similar pleadings to the Federal Energy Regulatory Commission, 888 First Street NE, Washington, DC 20426.

• Effective 7/1/2020, delivery of filings other than by eFiling or the U.S. Postal Service should be delivered to Health and Human Services, 12225 Wilkins Avenue, Rockville, Maryland 20852.

Instructions: All submissions must be formatted and filed in accordance with submission guidelines at http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, and telephone at (202) 502-8663.

SUPPLEMENTARY INFORMATION: Title: FERC-725G, Mandatory Reliability Standards for the Bulk-Power System: PRC Reliability Standards.

OMB Control No.: 1902-0252.

Type of Request: Revisions to FERC-725G information collection requirements, as discussed in Docket No. RD20-7.¹

¹ Note that Docket No. RD20-4 is pending and proposes changes to FERC-725G. Those proposed changes in Docket No. RD20-4 are separate and not addressed in this notice.

Abstract: The proposed Reliability Standard PRC-024-3 improves upon Reliability Standard PRC-024-2 by clarifying the voltage and frequency protection settings requirements, so that generating resources including inverter-based resources (IBR) continue to support grid stability during defined system voltage and frequency excursions. The proposed Reliability Standard PRC-024-3 includes modifications to the applicability including two new facilities: generator step-up transformer (GSU)/main power transformer (MPT for IBR) and unit auxiliary transformer (UAT).

On August 8, 2005, Congress enacted into law the Electricity Modernization Act of 2005, which is Title XII, Subtitle A, of the Energy Policy Act of 2005 (EPAct 2005).² EPAct 2005 added a new section 215 to the FPA, which required a Commission-certified Electric Reliability Organization (ERO) to develop mandatory and enforceable Reliability Standards, which are subject to Commission review and approval. Once approved, the Reliability Standard may be enforced by the ERO subject to Commission oversight, or the Commission can independently enforce Reliability Standards.³

² Energy Policy Act of 2005, Public Law 109-58, Title XII, Subtitle A, 119 Stat. 594, 941 (codified at 16 U.S.C. 824o).

³ 16 U.S.C. 824o(e)(3).

On February 3, 2006, the Commission issued Order No. 672, implementing section 215 of the FPA.⁴ Pursuant to Order No. 672, the Commission certified one organization, North American Electric Reliability Corporation (NERC), as the ERO.⁵ The Reliability Standards developed by the ERO and approved by the Commission apply to users, owners and operators of the Bulk-Power System as set forth in each Reliability Standard.

⁴ Rules Concerning Certification of the Electric Reliability Organization; and Procedures for the Establishment, Approval, and Enforcement of Electric Reliability Standards, Order No. 672, FERC Stats. & Regs. 31,204, order on reh'g, Order No. 672-A, FERC Stats. & Regs. 31,212 (2006).

⁵ North American Electric Reliability Corp., 116 FERC 61,062, order on reh'g and compliance, 117 FERC 61,126 (2006), order on compliance, 118 FERC 61,190, order on reh'g, 119 FERC 61,046 (2007), aff'd sub nom. Alcoa Inc. v. FERC, 564 F.3d 1342 (DC Cir. 2009).

On March 20, 2020, North American Electric Reliability Corporation (NERC) submitted for approval proposed Reliability Standard PRC-024-3 (Frequency and Voltage Protection Settings for Generating Resources.), as well as the proposed implementation plan, Violation Risk Factors, and Violation Severity Levels. NERC asserts that PRC-024-3 improves upon currently effective Reliability Standard PRC-024-2 by clarifying the voltage and frequency protection settings requirements so that generating resources including inverter-based resources (IBR) continue to support grid stability during defined system voltage and frequency excursions.

NERC's filed petition was noticed on March 26, 2020, with interventions, comments and protests due on or before April 20, 2020. This due date was extended to May 1, 2020, due to the COVID-19 pandemic. One motion to intervene and comment was filed by California Independent System Operator supporting approval of proposed Reliability Standard PRC-024-3 under Docket No. RD20-7.

Reliability Standard PRC-024-3 was approved by FERC on 7/9/2020 in a Delegated Letter Order (DLO).⁶

⁶ The DLO is posted in eLibrary at https://elibrary.ferc.gov/idmws/common/OpenNat.asp?fileID=15579259.

Type of Respondent: Generator Owner.

Estimate of Annual Burden: ⁷ Our estimate of the number of respondents affected is based on the NERC Compliance Registry as of June 1, 2020.⁸ According to the Compliance Registry, NERC has registered 975 generator owners within the United States.

⁷ Burden is defined as the total time, effort, or financial resources expended by persons to generate, maintain, retain, or disclose or provide information to or for a federal agency. See 5 CFR 1320 for additional information on the definition of information collection burden.

⁸ NERC Compliance Registry (June 1, 2020), available at https://www.nerc.com/pa/comp/Registration%20and%20Certification%20DL/NERC_Compliance_Registry_Matrix_Excel.xlsx.

The burden estimates reflect the standards and the number of affected entities.

Estimates for the additional average annual burden and cost ⁹ due to Docket No. RD20-7-000 follow.

⁹ The hourly cost estimates are based on wage data from the Bureau of Labor Statistics for May 2019 (at https://www.bls.gov/oes/current/naics2_22.htm) and benefits data for Dec. 2019 (issued March 2020, at https://www.bls.gov/news.release/ecec.nr0.htm). The hourly costs (for wages and benefits) are for: Electrical Engineer (Occupation code 17-2071), $70.91; Manager (Occupation code 11-0000), $97.15; and Information and Record Clerk (Occupation code 43-4199), $41.03.

FERC-725G, Modifications Due to Docket No. RD20-7
[& PRC-024-3 (Generator Frequency and Voltage Protective Relay Settings)] ¹⁰
Function | Number of respondents | Number of annual responses per respondent | Total number of annual responses | Average burden hours & cost ($) per response | Total annual burden hours & total annual cost ($)
| (1) | (2) | (1) × (2) = (3) | (4) | (3) × (4) = (5)
Develop coordination and relay settings procedures (one-time implementation in Year 1) ¹¹ | 975 (GO) | 1 | 975 (one-time) | 8 hrs.; $669.36 | 7,800 hrs. (one-time); $652,626.00.
Implement Relay Settings (one-time implementation in Year 1)¹² | 975 (GO) | 1 | 975 (one-time) | 8 hrs.; $561.52 | 7,800 hrs. (one-time); $547,482.00.
Evidence Retention (ongoing, starting in Year 1)¹³ | 975 (GO) | 1 | 975 | 1 hr.; $41.03 | 975 hrs.; $40,004.25.
Total |  |  |  |  | 16,575 hrs.; $1,240,112.25.

¹⁰ The Generator Owners will have one-time burden (e.g., to develop setting procedures, a coordination process, and a process for implementing relay settings) as well as ongoing records retention requirements. The one-time burden is in Year 1; annual ongoing burden starts in Year 1.

¹¹ The hourly cost (for wages plus benefits) assumes equal amounts of time spent by the Electrical Engineer and Manager. The average hourly cost is $83.67 (($70.19 + $97.15)/2).

¹² The hourly cost (for wages plus benefits) is $70.19 for the Electrical Engineer.

¹³ The hourly cost (for wages plus benefits) is $41.03 for the Information and Record Clerk.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: July 27, 2020.
Nathaniel J. Davis, Sr.,
Deputy Secretary.

[FR Doc. 2020-16679 Filed 7-30-20; 8:45 am]

BILLING CODE 6717-01-P